NATIONAL AERONAUTICS AND SPACE ADMINISTRATION

[Notice 01-005]

Aerospace Safety Advisory Panel (ASAP); Meeting

AGENCY: National Aeronautics and Space Administration.

ACTION: Notice of meeting.

SUMMARY: In accordance with the Federal Advisory Committee Act, Pub. L. 92-463, as amended, the National Aeronautics and Space Administration announces a forthcoming meeting of the Aerospace Safety Advisory Panel.

DATES: Thursday, February 8, 2001, 1:00 p.m. to 2:30 p.m.

ADDRESSES: National Aeronautics and Space Administration, 300 E Street, SW., Room 9H40, Washington, DC 20546.

FOR FURTHER INFORMATION CONTACT: Mr. David M. Lengyel, Aerospace Safety Advisory Panel Executive Director, Code Q-1, National Aeronautics and Space Administration, Washington, DC 20546, 202/358-0391, if you plan to attend.

SUPPLEMENTARY INFORMATION: The Aerospace Safety Advisory Panel will present its annual report to the National Aeronautics and Space Administration Administrator. This is pursuant to carrying out its statutory duties for which the Panel reviews, identifies, evaluates, and advises on those program activities, systems, procedures, and management activities that can contribute to program risk. Priority is given to those programs that involve the safety of human flight. The major subjects covered will be the National Space Transportation System, International Space Station, Aeronautical Operations, and Workforce Issues. The Aerospace Safety Advisory Panel is chaired by Mr. Richard D. Blomberg and is composed of nine members and eight consultants. The meeting will be open to the public up to the capacity of the room (approximately 60 persons including members of the Panel).

Dated: January 11, 2001.
Beth M. McCormick,
Advisory Committee Management Officer, National Aeronautics and Space Administration.

[FR Doc. 01-1307 Filed 1-16-01; 8:45 am]

BILLING CODE 7510-01-U